DEPARTMENT OF ENERGY

Federal Energy Regulatory Commission

Notice of Request for Amendment of License Article 412 and Soliciting Comments, Motions to Intervene, and Protests

December 20, 2000.

Take notice that the following application has been filed with the commission and is available for public inspection:

a. Application Type: Request for amendment of the license article 412 concerning the project's approved recreation plan.

b. Project No. 2506-070.

c. Date Filed: October 17, 2000.

d. Licensee: Upper Peninsula Power Company.

e. Name of Project: Escanaba Project.

f. Location: On the Escanaba River, near the township of Escanaba in Delta and Marquette Counties, Michigan. The project site does not involve federal or tribal lands.

g. Filed Pursuant to: Federal Power Act, 16 U.S.C. 791(a)-825(r).

h. Licensee Contact: Mr. Shawn Puzen, Wisconsin Public Service Corporation, 700 Adams Street, P.O. Box 19002, Green Bay, Wisconsin 54307-9002. (920) 433-1094.

i. FERC Contact: Any questions on this notice should be addressed to Jean Potvin, jean.potvin@ferc.fed.us, (202) 219-0022.

j. Deadline for filing comments and or motions: January 26, 2001.

All documents (original and eight copies) should be filed with Mr. David P. Boergers, Secretary, Federal Energy Regulatory Commission, 888 First Street, NE., Washington, DC 20426. Comments and protests may be filed electronically via the internet in lieu of paper. See, 18 CFR 385.2001(a)(1)(iii) and the instructions on the Commission's web site at http://www.ferc.fed.us/rfi/doorbell.htm. Please reference the following number, ­P-2506-070, on any comments or motions filed.

Description of Proposal: The licensee proposes to amend article 412 and the approved recreation plan of the project license by deleting the requirement to construct a boat landing on the impoundment of Dam #1.

l. Locations of the Application: A copy of the application is available for inspection and reproduction at the Commission's Public Reference Room, at 888 First Street, NE., Room 2A, Washington, DC 20426, or by calling 202-208-1371. The application may be viewed on-line at http:\\ www.ferc.fed.us/online/rims.htm (call 202-208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.211, .214. In determining the appropriate action to take, the Commission will consider all protests or other comments filed, but only those who file a motion to intervene in accordance with the commission's Rules may become a party to the proceeding. Any comments, protests, or motions to intervene must be received on or before the specified comment date for the particular application.

Filing and Service of Responsive Documents—any filings must bear in all capital letters the title “COMMENTS”, “RECOMMENDATIONS FOR TERMS AND CONDITIONS”, “PROTEST”, OR “MOTION TO INTERVENE”, as applicable, and the Project Number of the particular application to which the filing refers. Any of the above-named documents must be filed by providing the original and the number of copies provided by the commission's regulations to: The Secretary, Federal Energy Regulatory commission, 888 First Street, NE., Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-32898 Filed 12-26-00; 8:45 am]

BILLING CODE 6717-0-M